DEPARTMENT OF HOMELAND SECURITY

Coast Guard

[Docket No. USCG-2015-0752]

Merchant Marine Personnel Advisory Committee

AGENCY: Coast Guard, DHS.

ACTION: Notice of Federal Advisory Committee Meeting.

SUMMARY: The Merchant Marine Personnel Advisory Committee and its working groups will meet to discuss various issues related to the training and fitness of merchant marine personnel. These meetings will be open to the public.

DATES: The Merchant Marine Personnel Advisory Committee working groups are scheduled to meet on September 16, 2015, from 8 a.m. until 5:30 p.m., and the full Committee is scheduled to meet on September 17, 2015, from 8 a.m. until 5:30 p.m. Written comments for distribution to Committee members and for inclusion on the Merchant Marine Personnel Advisory Committee Web site must be submitted on or before September 8, 2015. Please note that these meetings may adjourn early if all business is finished.

ADDRESSES: The Committee will meet in the Coast Guard National Maritime Center, 100 Forbes Drive, Martinsburg, WV 25404-7120.

To facilitate public participation, we are inviting public comment on the issues to be considered by the Committee and working groups as listed in the “Agenda” section below. Written comments must be identified by Docket No. USCG-2015-0752 and submitted by one of the following methods:

• Federal eRulemaking Portal: http://www.regulations.gov. Follow the instructions for submitting comments (preferred method to avoid delays in processing).

• Fax: 202-493-2251.

• Mail: Docket Management Facility (M-30), U.S.Department of Transportation, West Building Ground Floor, Room W12-140, 1200 New Jersey Avenue SE., Washington, DC 20590-0001.

• Hand delivery: Same as mail address above, between 9 a.m. and 5 p.m., Monday through Friday, except Federal Holidays. The telephone number is 202-366-9329. Instructions: All submissions must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, enter the docket number in the “Search” field and follow the instructions on the Web site.

Public oral comment periods will be held each day. Speakers are requested to limit their comments to 3 minutes. Please note that the public oral comment periods may end following the last call for comments. Contact Mr. Davis Breyer as indicated below to register as a speaker. This notice may be viewed in our online docket, USCG-2015-0752, at http://www.regulations.gov.

FOR FURTHER INFORMATION CONTACT: Mr. Davis Breyer, Alternate Designated Federal Officer of the Merchant Marine Personnel Advisory Committee, telephone 202-372-1445, or at davis.j.breyer@uscg.mil. If you have any questions on viewing or submitting material to the docket, call Cheryl Collins, Program Manager, Docket Operations, telephone 202-366-9826 or 1-800-647-5527. For further information on the location of the Coast Guard National Maritime Center, including information on facilities or services for individuals with disabilities or to request special assistance, contact Ms. Karen Quigley at 304-433-3403 or via email at karen.l.quigley@uscg.mil.

SUPPLEMENTARY INFORMATION: Notice of this meeting is given under the Federal Advisory Committee Act, Title 5 United States Code Appendix.

The Merchant Marine Personnel Advisory Committee was established under authority of section 310 of the Howard Coble Coast Guard and Maritime Transportation Act of 2014, Title 46, United States Code, section 8108, and chartered under the provisions of the Federal Advisory Committee Act, (Title 5, United States Code, Appendix). The Committee acts solely in an advisory capacity to the Secretary of the Department of Homeland Security through the Commandant of the Coast Guard on matters relating to personnel in the U.S. merchant marine, including training, qualifications, certification, documentation, and fitness standards and other matters as assigned by the Commandant; shall review and comment on proposed Coast Guard regulations and policies relating to personnel in the United States merchant marine, including training, qualifications, certification, documentation, and fitness standards; may be given special assignments by the Secretary and may conduct studies, inquiries, workshops, and fact finding in consultation with individuals and groups in the private sector and with State or local governments; shall advise, consult with, and make recommendations reflecting its independent judgment to the Secretary.

A copy of all meeting documentation, including the task statements, is available at https://homeport.uscg.mil by using these key strokes: Missions; Port and Waterways Safety; Advisory Committees; MERPAC; and then use the announcements key. Alternatively, you may contact Mr. Breyer as noted in the FOR FURTHER INFORMATION CONTACT section above.

Agenda

Day 1

The agenda for the September 16, 2015, meeting is as follows:

(1) The full Committee will meet briefly to discuss the working groups' business/task statements, which are listed under paragraph 2 (a)-(h) below.

(2) Working groups will address the following task statements which are available for viewing at http://homeport.uscg.mil/merpac:

(a) Task Statement 30, Utilizing military education, training and assessment for the International Convention on Standards of Training, Certification and Watchkeeping for Seafarers and U.S. Coast Guard Certifications;

(b) Task Statement 58, Communication between external stakeholders and the mariner credentialing program, as it relates to the National Maritime Center;

(c) Task Statement 84, Correction of merchant mariner credentials issued with clear errors;

(d) Task Statement 87, Review of policy documents providing guidance on the implementation of the December 24, 2013 International Convention on Standards of Training, Certification and Watchkeeping and Changes to National Endorsements rulemaking;

(e) Task Statement 88, Mariner occupational health risk study analysis to further develop policy guidance on mariner fitness; and

(f) Task Statement 89, Review and update of the International Maritime Organization's Maritime Safety Committee Circular MSC/Circ.1014, “Guidelines on Fatigue Mitigation and Management.”

(3) Reports of working groups. At the end of the day, the working groups will report to the full Committee on what was accomplished in their meetings. The full Committee will not take action on these reports on this date. Any official action taken as a result of this working group meeting will be taken on day 2 of the meeting.

(4) Public comment period.

(5) Adjournment of meeting.

Day 2

The agenda for the September 17, 2015, full Committee meeting is as follows:

(1) Introduction;

(2) Remarks from Coast Guard Leadership;

(3) Designated Federal Officer announcements;

(4) Roll call of Committee members and determination of a quorum;

(5) Reports from the following working groups;

(a) Task Statement 30, Utilizing military education, training and assessment for the International Convention on Standards of Training, Certification and Watchkeeping for Seafarers and U.S. Coast Guard Certifications;

(b) Task Statement 58, Communication between external stakeholders and the mariner credentialing program, as it relates to the National Maritime Center;

(c) Task Statement 80, Develop training guidelines for mariners employed aboard vessels subject to the International Code of Safety for Ships Using Gases or Other Low-flashpoint Fuels;

(d) Task Statement 81, Development of competency requirements for vessel personnel working within the polar regions;

(e) Task Statement 84, Correction of merchant mariner credentials issued with clear errors; and

(f) Task Statement 87, Review of policy documents providing guidance on the implementation of the December 24, 2013 International Convention on Standards of Training, Certification and Watchkeeping and Changes to National Endorsements rulemaking.

(g) Task Statement 88, Mariner occupational health risk study analysis to further develop policy guidance on mariner fitness.

(h) Task Statement 89, Review and update of International Maritime Organization's Maritime Safety Committee Circular MSC/Circ.1014, “Guidelines on Fatigue Mitigation and Management.”

(6) Other items for discussion:

(a) Report on the Implementation of the 2010 Amendments to the International Convention on Standards of Training, Certification and Watchkeeping;

(b) Report on National Maritime Center activities from the National Maritime Center Commanding Officer, such as the net processing time it takes for mariners to receive their credentials after application submittal;

(c) Report on Mariner Credentialing Program Policy Division activities, such as its current initiatives and projects;

(d) Report on International Maritime Organization/International Labor Organization issues related to the merchant marine industry; and

(e) Briefings about on-going Coast Guard projects related to personnel in the U.S. merchant marine, including a draft task statement concerning job descriptions for the various billets on merchant vessels.

(7) New Business.

New task statement—“Merchant Mariner Credential Expiration Harmonization.”

(8) Public comment period.

(9) Discussion of working group recommendations. The Committee will review the information presented on each issue, deliberate on any recommendations presented by the working groups and approve/formulate recommendations for the Department's consideration. Official action on these recommendations may be taken on this date.

(10) Closing remarks/plans for next meeting.

(11) Adjournment of meeting.

J.G. Lantz,
Director of Commercial Regulations and Standards.

[FR Doc. 2015-20973 Filed 8-24-15; 8:45 am]

BILLING CODE 9110-04-P